LEGAL SERVICES CORPORATION

Sunshine Act Meeting of the Board of Directors

TIME AND DATE: The Board of Directors of the Legal Services Corporation will meet on April 15, 2000. The meeting will begin at 10 a.m. and continue until conclusion of the Board's agenda.

LOCATION: Marriott Wardman Park Hotel, 2660 Woodley Road, NW, Washington, DC 20008.

STATUS OF MEETING: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c) (10)] and the corresponding provisions of the Legal Services Corporation's implementing regulation [45 CFR 1622.5(h)]. A copy of the General Counsel's Certification that the closing is authorized by law will be available upon request.

MATTERS TO BE CONSIDERED:

Open Session

1. Approval of agenda.

2. Approval of minutes of the Board's meeting of January 28-29, 2000.

3. Approval of minutes of the executive session of the Board's meeting of January 28-29, 2000.

4. Approval of minutes of the Board's teleconference meeting of January 28-29, 2000.

5. Approval of minutes of the Annual Performance Reviews Committee's tele-conference meeting of November 19, 1999.

6. Approval of minutes of the Annual Performance Reviews Committee's tele-conference meeting of January 24, 2000.

7. Approval of minutes of the November 19, 1999 meeting of the Committee on Provision for the Delivery of Legal Services.

8. Approval of minutes of the Operations & Regulations Committee's meeting of November 19, 1999.

9. Chairman's Report.

10. Members' Report.

11. Inspector General's Report.

12. President's Report.

13. Report on the status of Strategic Planning by the Corporation.

14. Review of the Corporation's Consolidated Operating Budget, Expenses and Other Funds Available through February 29, 2000.

15. Consider and act on the Board's meeting schedule, including designation of locations, for calendar year 2001.

16. Consider and act on the extension of John McKay's contract of employment as President of the Corporation.

Closed Session

17. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR § 1622.2 & 1622.3.

18. Consider and act on the Office of Legal Affairs' report on potential and pending litigation involving the Corporation.

Open Session

19. Consider and act on other business.

20. Public Comment.

CONTACT PERSON FOR INFORMATION: Victor M. Fortuno, Vice President for Legal Affairs, General Counsel and Secretary of the Corporation, at (202) 336-8800.

SPECIAL NEEDS: Upon request, meeting notices will be made available in alternate formats to accommodate visual and hearing impairments. Individuals who have a disability and need an accommodation to attend the meeting may notify Shannon Nicko Adaway, at (202) 336-8800.

Dated: April 4, 2000.
Victor M. Fortuno,
Vice President for Legal Affairs, General Counsel and Corporate Secretary.

[FR Doc. 00-8745 Filed 4-5-00; 12:45 pm]

BILLING CODE 7050-01-M